DEPARTMENT OF LABOR

Employment and Training Administration

[TA-W-54,729A]

Piedmont Industries, Inc., Icard Plant, Connelly Springs, NC; Termination of Investigation

The investigation was initiated on April 16, 2004, in response to a petition filed on behalf of workers at Piedmont Industries, Inc., Connelly Springs, North Carolina. Workers at are in the production of hosiery and separately identifiable only by facility.

The workers of Piedmont Industries at the Icard plant are included in a certification issued by the Department on November 20, 2003, petition number TA-W-53,246. Consequently, further investigation would serve no purpose, and this investigation is terminated.

Signed in Washington, DC, this 21st day of May, 2004.
Linda G. Poole,
Certifying Officer, Division of Trade Adjustment Assistance.

[FR Doc. 04-12881 Filed 6-7-04; 8:45 am]

BILLING CODE 4510-30-P